COMMISSION ON CIVIL RIGHTS

Agenda and Notice of Public Meeting of the North Carolina Advisory Committee

Notice is hereby given, pursuant to the provisions of the rules and regulations of the U.S. Commission on Civil Rights, that a meeting of the North Carolina Advisory Committee to the Commission will convene at 10 a.m. and adjourn at 3 p.m. on Tuesday, September 26, 2006, at the office of Womble, Carlyle, Sandridge, and Rice, 150 Fayetteville Street, Suite 2100, Raleigh, North Carolina, has a new meeting location. The meeting will convene at the Magnolia I Room of the Sheraton Raleigh Hotel, 421 S. Salisbury Street, Raleigh, North Carolina. This notice originally published in the Federal Register August 8, 2006, Volume 71, Number 153, Pages 44995 and 44996. This is change of location only. The purpose of the meeting is an orientation of Committee members, a discussion of the Committee's report on Title I funding, a briefing on the Committee's school desegregation project, and a discussion of a project for 2007.

Persons desiring additional information, or planning a presentation to the Committee, should contact Peter Minarik, Ph.D., Regional Director, Southern Regional Office, U.S. Commission on Civil Rights at (404) 562-7000. Hearing impaired individuals may obtain additional information by calling TDD 202-376-8116, and hearing-impaired persons who will attend the meeting and require the services of a sign language interpreter should contact the Regional Office at least ten (10) working days before the scheduled date of the meeting.

The meeting will be conducted pursuant to the provisions of the rules and regulations of the Commission.

Dated at Washington, DC, September 13, 2006.
Ivy L. Davis,
Acting Chief, Regional Programs Coordination Unit.

[FR Doc. E6-15488 Filed 9-15-06; 8:45 am]

BILLING CODE 6335-01-P